DEPARTMENT OF COMMERCE

National Oceanic and Atmospheric Administration

50 CFR Part 660

[Docket No. 170831849-8404-01]

RIN 0648-XG337

Fisheries Off West Coast States; Modifications of the West Coast Commercial Salmon Fisheries; Inseason Actions #2 through #11

AGENCY: National Marine Fisheries Service (NMFS), National Oceanic and Atmospheric Administration (NOAA), Commerce.

ACTION: Modification of fishing seasons.

SUMMARY: NMFS announces ten inseason actions in the ocean salmon fisheries. These inseason actions modified the commercial salmon fisheries in the area from the U.S./Canada border to the U.S./Mexico border.

DATES: The effective dates for the inseason actions are set out in this document under the heading Inseason Actions.

FOR FURTHER INFORMATION CONTACT: Peggy Mundy at 206-526-4323.

SUPPLEMENTARY INFORMATION:

Background

In the 2018 annual management measures for ocean salmon fisheries (83 FR 19005, May 1, 2018), NMFS announced management measures for the commercial and recreational fisheries in the area from the U.S./Canada border to the U.S./Mexico border, beginning May 1, 2018, through April 30, 2019. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Pacific Fishery Management Council (Council) and the appropriate State Directors (50 CFR 660.409(b)—Flexible inseason management provisions). The state management agencies that participated in the consultations described in this document were: California Department of Fish and Wildlife (CDFW), Oregon Department of Fish and Wildlife (ODFW), and Washington Department of Fish and Wildlife (WDFW).

Management Areas

Management of the salmon fisheries is generally divided into two geographic areas: North of Cape Falcon (U.S./Canada border to Cape Falcon, OR) and south of Cape Falcon (Cape Falcon, OR, to the U.S./Mexico border). South of Cape Falcon, the area from Humbug Mountain, OR, to Horse Mountain, CA, is the Klamath Management Zone (KMZ) and is managed in two subareas, Oregon KMZ and California KMZ, divided at the Oregon/California border. For managing commercial salmon fisheries, the Oregon KMZ is the area from Humbug Mountain, OR to the Oregon/California border, and the California KMZ is the area from the Oregon/California border to Humboldt South Jetty, CA. The area from Humboldt South Jetty, CA, to Horse Mountain, CA, is closed to commercial salmon fishing in 2018.

Inseason Actions

Inseason Action #2

Description of action: Inseason action #2 closed the commercial salmon fishery from the U.S./Canada border to Queets River, WA, at 11:59 p.m., May 27, 2018.

Effective dates: Inseason action #2 took effect on May 27, 2018, and remained in effect until superseded by inseason action #3 on May 31, 2018.

Reason and authorization for the action: WDFW provided information on salmon landings in the ocean salmon fishery north of Queets River, WA, and recommended that, at the current rate of harvest, the May-June Chinook salmon quota in the area was at risk of being exceeded. The purpose of this action was to avoid exceeding the May-June quota for Chinook salmon in the area. The NMFS West Coast Regional Administrator (RA) considered Chinook salmon landings and fishery effort in the area north of Cape Falcon and determined that this inseason action was necessary to meet management objectives set preseason. The 2018 annual management measures for ocean salmon fisheries (83 FR 19005, May 1, 2018) state that landing limits may be modified inseason to sustain season length and keep harvest within overall quotas. Flexible inseason management provisions are authorized by 50 CFR 660.409(b).

Consultation date and participants: Consultation on inseason action #2 occurred on May 25, 2018. Representatives from NMFS, WDFW, ODFW, and the Council participated in this consultation.

Inseason Action #3

Description of action: Inseason action #3 superseded inseason action #2 and reopened the commercial salmon fishery from the U.S./Canada border to Queets River, WA, from May 31, 2018, through June 4, 2018, with an open period landing limit of 35 Chinook salmon per vessel.

Effective dates: Inseason action #3 took effect May 31, 2018, and remained in effect until superseded by inseason action #7 on June 8, 2018.

Reason and authorization for the action: WDFW reported updated landings for the area north of Cape Falcon and recommended that sufficient quota remained in the area north of the Queets River to reopen the fishery, on a limited basis, for five days with a 35 Chinook salmon per vessel landing limit. This recommendation reduced the open period from seven days per week and the landing limit from 50 Chinook salmon per vessel, set preseason. The RA considered Chinook salmon landings and fishery effort in the area north of Cape Falcon and determined that this inseason action was necessary to meet management objectives set preseason and to allow commercial salmon fishers to fully access available quota. The 2018 annual management measures for ocean salmon fisheries (83 FR 19005, May 1, 2018) state that landing limits may be modified inseason to sustain season length and keep harvest within overall quotas. Flexible inseason management provisions are authorized by 50 CFR 660.409(b).

Consultation date and participants: Consultation on inseason action #3 occurred on May 30, 2018. Representatives from NMFS, WDFW, ODFW, and the Council participated in this consultation.

Inseason Action #4

Description of action: Inseason action #4 increased the landing limit in the commercial ocean salmon fishery from Queets River, WA, to Leadbetter Point, WA, from 100 Chinook salmon per vessel per landing week (Thursday through Wednesday) to 200 Chinook salmon per vessel per landing week (Thursday through Wednesday).

Effective dates: Inseason action #4 took effect May 31, 2018, and remained in effect through June 30, 2018.

Reason and authorization for the action: ODFW and WDFW presented information that landings were very low in the north of Cape Falcon fisheries located south of Queets River, WA. The RA considered Chinook salmon landings and fishery effort in the area and determined that this inseason action was necessary to meet management objectives set preseason and to allow commercial salmon fishers to fully access available quota. The 2018 annual management measures for ocean salmon fisheries (83 FR 19005, May 1, 2018) state that landing limits may be modified inseason to sustain season length and keep harvest within overall quotas. Flexible inseason management provisions are authorized by 50 CFR 660.409(b).

Consultation date and participants: Consultation on inseason action #4 occurred on May 30, 2018. Representatives from NMFS, WDFW, ODFW, and the Council participated in this consultation.

Inseason Action #5

Description of action: Inseason action #5 increased the landing limit in the commercial ocean salmon fishery from Leadbetter Point, WA, to Cape Falcon, OR, from 50 Chinook salmon per vessel per landing week (Thursday through Wednesday) to 100 Chinook salmon per vessel per landing week (Thursday through Wednesday).

Effective dates: Inseason action #5 took effect May 31, 2018, and remained in effect through June 30, 2018.

Reason and authorization for the action: ODFW and WDFW presented information that landings were very low in the north of Cape Falcon fisheries located south of Queets River, WA. The RA considered Chinook salmon landings and fishery effort in the area and determined that this inseason action was necessary to meet management objectives set preseason and to allow commercial salmon fishers to fully access available quota. The 2018 annual management measures for ocean salmon fisheries (83 FR 19005, May 1, 2018) state that landing limits may be modified inseason to sustain season length and keep harvest within overall quotas. Flexible inseason management provisions are authorized by 50 CFR 660.409(b).

Consultation date and participants: Consultation on inseason action #5 occurred on May 30, 2018. Representatives from NMFS, WDFW, ODFW, and the Council participated in this consultation.

Inseason Action #6

Description of action: Inseason action #6 adjusted the June quota for the commercial ocean salmon fishery in the California KMZ from 4,000 Chinook salmon to 6,650 Chinook salmon by rolling over unused Chinook salmon quota from May to June on an impact-neutral basis.

Effective dates: Inseason action #6 took effect June 1, 2018 and remained in effect through June 30, 2018.

Reason and authorization for the action: The May quota for the commercial salmon fishery in the California KMZ was 3,600 Chinook salmon. CDFW estimated May landings at 950 Chinook salmon. Based on the Chinook salmon landings and fishery effort in the area and the calculations of the Council's Salmon Technical Team (STT) for rolling over quota on an impact-neutral basis for Sacramento and Klamath River fall Chinook salmon stocks, the RA determined that the rollover from May to June would be 2,650 Chinook salmon, resulting in an adjusted June quota of 6,650. The RA further determined that this inseason action was necessary to meet management objectives set preseason and to allow commercial salmon fishers to fully access available quota. Impact-neutral quota rollover from one month to the next in the California KMZ is permitted under the 2018 annual management measures for ocean salmon fisheries (83 FR 19005, May 1, 2018). Flexible inseason management provisions are authorized by 50 CFR 660.409(b).

Consultation date and participants: Consultation on inseason action #6 occurred on May 30, 2018. Representatives from NMFS, CDFW, ODFW, and the Council participated in this consultation.

Inseason Action #7

Description of action: Inseason action #7 superseded inseason action #3 and reopened the commercial salmon fishery from the U.S./Canada border to Queets River, WA, from June 8, 2018, through June 11, 2018, with an open period landing limit of 30 Chinook salmon per vessel.

Effective dates: Inseason action #7 took effect June 8, 2018 and remained in effect through June 30, 2018.

Reason and authorization for the action: WDFW reported updated landings for the area north of Cape Falcon, and recommended that sufficient quota remained in the area north of the Queets River to reopen the fishery for four days with a 30 Chinook salmon per vessel landing limit. The RA considered Chinook salmon landings and fishery effort in the area and determined that this inseason action was necessary to meet management objectives set preseason and to allow commercial salmon fishers to fully access available quota. The 2018 annual management measures for ocean salmon fisheries (83 FR 19005, May 1, 2018) state that landing limits may be modified inseason to sustain season length and keep harvest within overall quotas. Flexible inseason management provisions are authorized by 50 CFR 660.409(b).

Consultation date and participants: Consultation on inseason action #7 occurred on June 7, 2018. Representatives from NMFS, WDFW, ODFW, and the Council participated in this consultation.

Inseason Action #8

Description of action: Inseason action #8 cancelled the scheduled June 16-30, 2018, opening of the commercial ocean salmon fishery in the Oregon KMZ due to attainment of the June quota in that area.

Effective dates: Inseason action #8 took effect June 16, 2018, and remained in effect through June 30, 2018.

Reason and authorization for the action: ODFW provided data for June salmon landings in the Oregon KMZ and recommended that insufficient quota remained to support the previously scheduled June 16-30, 2018 opening. The RA considered Chinook salmon landings and fishery effort in the Oregon KMZ and determined that this inseason action was necessary to meet management objectives set preseason and to prevent exceeding the June quota. The 2018 annual management measures for ocean salmon fisheries (83 FR 19005, May 1, 2018) state that landing limits may be modified inseason to sustain season length and keep harvest within overall quotas. Flexible inseason management provisions are authorized by 50 CFR 660.409(b).

Consultation date and participants: Consultation on inseason action #8 occurred on June 14, 2018. Representatives from NMFS, ODFW, CDFW, and the Council participated in this consultation.

Inseason Action #9

Description of action: Inseason action #9 adjusted the July quota for the commercial ocean salmon fishery in the California KMZ from 4,000 Chinook salmon to 6,612 Chinook salmon by rolling over unused Chinook salmon quota from June to July on an impact-neutral basis.

Effective dates: Inseason action #9 took effect July 1, 2018, and remains in effect through July 31, 2018.

Reason and authorization for the action: The June quota for the commercial salmon fishery in the California KMZ, as adjusted under inseason action #6 above, was 6,650 Chinook salmon. CDFW estimated June landings at 2,614 Chinook salmon. Based on the Chinook salmon landings and fishery effort in the area and the calculations of the STT for rolling over quota on an impact-neutral basis for the Sacramento River fall Chinook salmon stock, the RA determined that the rollover from June to July would be 2,612 Chinook salmon, resulting in an adjusted July quota of 6,612. The RA further determined that this inseason action was necessary to meet management objectives set preseason and to allow commercial salmon fishers to fully access available quota. Impact-neutral quota rollover from one month to the next in the California KMZ is permitted under the 2018 annual management measures for ocean salmon fisheries (83 FR 19005, May 1, 2018). Flexible inseason management provisions are authorized by 50 CFR 660.409(b).

Consultation date and participants: Consultation on inseason action #9 occurred on June 27, 2018. Representatives from NMFS, ODFW, CDFW, and the Council participated in this consultation.

Inseason Action #10

Description of action: Inseason action #10 adjusted the July quota for the commercial ocean salmon fishery in the Oregon KMZ from 2,000 Chinook salmon to 1,975 Chinook salmon by deducting, on an impact-neutral basis, Chinook salmon quota that was exceeded in the area in June.

Effective dates: Inseason action #10 took effect July 1, 2018 and remains in effect through July 31, 2018.

Reason and authorization for the action: The June quota for the commercial salmon fishery in the Oregon KMZ was 1,500 Chinook salmon. ODFW estimated June landings at 1,556 Chinook salmon, exceeding the June quota by 56 Chinook salmon. Based on the Chinook salmon landings and fishery effort in the area and the calculations of the STT for rolling back quota on an impact-neutral basis for the Sacramento and Klamath River fall Chinook salmon stocks, the RA determined that 25 Chinook salmon would be deducted from the July quota in the Oregon KMZ to account for exceeding the June quota, resulting in an adjusted July quota of 1,975 Chinook salmon. The RA further determined that this inseason action was necessary to meet management objectives set. Impact-neutral quota rollover from one month to the next in the Oregon KMZ is permitted under the 2018 annual management measures for ocean salmon fisheries (83 FR 19005, May 1, 2018). Flexible inseason management provisions are authorized by 50 CFR 660.409(b).

Consultation date and participants: Consultation on inseason action #10 occurred on June 27, 2018. Representatives from NMFS, ODFW, CDFW, and the Council participated in this consultation.

Inseason Action #11

Description of action: Inseason action #11 allows retention of halibut caught incidental to the commercial salmon fishery by IPHC license holders to continue past June 30, 2018, with the same landing and possession limits set preseason, due to sufficient halibut allocation remaining. This inseason action applies to commercial salmon fisheries from the U.S./Canada border to the U.S./Mexico border.

Effective dates: Inseason action #11 took effect July 1, 2018, and remains in effect until superseded by further inseason action.

Reason and authorization for the action: The 2018 annual management measures for ocean salmon fisheries (83 FR 19005, May 1, 2018) announced the conditions for incidental halibut harvest: “incidental harvest is authorized only during April, May, and June of the 2018 troll seasons, and after June 30 in 2018 if quota remains.” At the time of this consultation, 28 percent of the incidental halibut allocation remained uncaught. The RA considered Chinook salmon and halibut landings and fishery effort in the commercial ocean salmon fishery and determined that this inseason action was necessary to meet management objectives set preseason and to allow access to the available halibut allocation, as provided for in the 2018 annual management measures for ocean salmon fisheries (83 FR 19005, May 1, 2018). Flexible inseason management provisions are authorized by 50 CFR 660.409(b).

Consultation date and participants: Consultation on inseason action #11 occurred on June 27, 2018. Representatives from NMFS, ODFW, CDFW, and the Council participated in this consultation.

All other restrictions and regulations remain in effect as announced for the 2018 ocean salmon fisheries and 2019 salmon fisheries opening prior to May 1, 2019 (83 FR 19005, May 1, 2018), and as modified by prior inseason actions.

The RA determined that the best available information indicated that Chinook salmon and halibut abundance forecasts and expected fishery effort in 2018 supported the above inseason actions recommended by the states of Washington, Oregon, and California. The states manage the fisheries in state waters adjacent to the areas of the U.S. exclusive economic zone consistent with these federal actions. As provided by the inseason notice procedures of 50 CFR 660.411, actual notice of the described regulatory action was given, prior to the time the action was effective, by telephone hotline numbers 206-526-6667 and 800-662-9825, and by U.S. Coast Guard Notice to Mariners broadcasts on Channel 16 VHF-FM and 2182 kHz.

Classification

NOAA's Assistant Administrator (AA) for NMFS finds that good cause exists for this notification to be issued without affording prior notice and opportunity for public comment under 5 U.S.C. 553(b)(B) because such notification would be impracticable. As previously noted, actual notice of the regulatory action was provided to fishers through telephone hotline and radio notification. This action complies with the requirements of the annual management measures for ocean salmon fisheries (83 FR 19005, May 1, 2018), the Pacific Coast Salmon Fishery Management Plan (FMP), and regulations implementing the FMP, 50 CFR 660.409 and 660.411. Prior notice and opportunity for public comment was impracticable because NMFS and the state agencies had insufficient time to provide for prior notice and the opportunity for public comment between the time Chinook salmon and halibut catch and effort projections and abundance forecasts were developed and fisheries impacts were calculated, and the time the fishery modifications had to be implemented in order to ensure that fisheries are managed based on the best available scientific information, ensuring that conservation objectives and limits for impacts to salmon species listed under the Endangered Species Act are not exceeded. The AA also finds good cause to waive the 30-day delay in effectiveness required under 5 U.S.C. 553(d)(3), as a delay in effectiveness of this action would allow fishing at levels inconsistent with the goals of the FMP and the current management measures.

This action is authorized by 50 CFR 660.409 and 660.411 and is exempt from review under Executive Order 12866.

Authority: 16 U.S.C. 1801 et seq.

Dated: July 30, 2018.
Margo Schulze-Haugen,
Acting Director, Office of Sustainable Fisheries, National Marine Fisheries Service.

[FR Doc. 2018-16587 Filed 8-2-18; 8:45 am]

BILLING CODE 3510-22-P